ENVIRONMENTAL PROTECTION AGENCY

[FRL-6850-4]

Draft Health Assessment Document for Diesel Exhaust

AGENCY: Environmental Protection Agency.

ACTION: Notice of availability of a draft document for public review and comment.

SUMMARY: The U.S. Environmental Protection Agency (EPA) is announcing the availability of a Science Advisory Board (SAB) review draft of the Health Assessment Document for Diesel Exhaust (EPA/600/8-90/057E, July 2000) for public review and comment. The document was prepared by the National Center for Environmental Assessment (NCEA) within EPA's Office of Research and Development.

DATES: The public comment period begins August 11, 2000. Comments must be in writing and must be postmarked by September 29, 2000.

ADDRESSES: The primary distribution method for the SAB review draft document will be via the Internet on the National Center for Environmental Assessment's (NCEA) web site at http://www.epa.gov/ncea under the What's New and Publications menus. A limited number of paper copies are available from NCEA's Technical Information Staff, (telephone: 202-564-3261; facsimile: 202-565-0050; e-mail: nceadc.comment@epa.gov). If you are requesting a paper copy, please provide your name, mailing address, and the title and number of the draft, Health Assessment Document for Diesel Exhaust (EPA/600/8-90/057E, July 2000).

Comments may be mailed to: Diesel Comments, NCEA-W/TIS (8623D), U.S. Environmental Protection Agency, 1200 Pennsylvania Avenue, N.W., Washington, DC 20460. If sent via overnight delivery, please use the following address: 808 17th St., N.W., 5th Floor, Washington, DC 20006. Please submit one unbound original with pages numbered consecutively, and three copies. For attachments, provide an index, number pages consecutively with the comments, and submit an unbound original and three copies.

Please note that all technical comments received in response to this notice will be placed in a public record. For that reason, commenters should not submit personal information (such as medical data or home address), Confidential Business Information, or information protected by copyright. Due to limited resources, acknowledgments will not be sent.

FOR FURTHER INFORMATION CONTACT: For information contact the Technical Information Staff, NCEA-W (8623D), U.S. Environmental Protection Agency, 1200 Pennsylvania Avenue, NW., Washington, DC 20460; telephone: 202-564-3261; facsimile: 202-565-0050; e-mail: nceadc.comment@epa.gov.

SUPPLEMENTARY INFORMATION: This revised draft assessment updates an earlier draft (November 1999) by responding to peer-review comments dated February 2000 from the Clean Air Scientific Advisory Committee (CASAC) of the EPA's SAB. The assessment focuses on health hazards (hazard identification and dose-response analysis for the purpose of characterizing the risk of diesel exhaust exposure), and also provides background information about diesel engine emissions and exposure that is useful for putting the health information into context. EPA risk assessment methods and practices have been followed in identifying possible human chronic health hazards for adverse noncancer effects as well as carcinogenicity hazards. The Diesel Review Panel of the CASAC will meet later this year to review this draft Health Assessment Document for Diesel Exhaust. The meeting will be announced in a subsequent Federal Register notice.

Dated: August 3, 2000.
William H. Farland,
Director, National Center for Environmental Assessment.

[FR Doc. 00-20427 Filed 8-10-00; 8:45 am]

BILLING CODE 6560-50-P